ENVIRONMENTAL PROTECTION AGENCY

[FRL-8770-4]

Science Advisory Board Staff Office; Notification of Public Meetings of the Science Advisory Board Radiation Advisory Committee Augmented for the Review of EPA's Radiogenic Cancer Risk Assessment

AGENCY: Environmental Protection Agency (EPA).

ACTION: Notice.

SUMMARY: The EPA Science Advisory Board (SAB) Staff Office announces two public meetings of the SAB Radiation Advisory Committee (RAC) augmented with additional experts to review the draft EPA document entitled “EPA Radiogenic Cancer Risk Models and Projections for the U.S. Population,” December 2008.

DATES: The SAB Radiation Advisory Committee (RAC), augmented for the review of EPA's radiogenic cancer risk assessment, will hold a public teleconference on Friday, February 27, 2009 from 11 a.m. to 2 p.m. (Eastern Time) and a public face-to-face meeting on Monday, March 23 through Wednesday, March 25, 2009, commencing at 9 a.m. (Eastern Time). The final agendas for these public meetings will be posted on the SAB's Web site at http://www.epa.gov/sab.

ADDRESSES: The public teleconference meeting of February 27, 2009 will take place via telephone only. The March 23-25, 2009 meeting will take place in the Washington, DC area. The final meeting location will be posted on the SAB Web site.

FOR FURTHER INFORMATION CONTACT: Members of the public who wish to obtain the call-in number and access code for the public teleconference meeting, or further information concerning the face-to-face public meeting may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at kooyoomjian.jack@epa.gov. General information concerning the SAB can be found on the SAB Web site at http://www.epa.gov/sab.

SUPPLEMENTARY INFORMATION: Background: Pursuant to the Federal Advisory Committee Act (FACA), Public Law 92-463, the SAB Staff Office hereby gives notice of one public teleconference meeting and one face-to-face public meeting of the SAB Radiation Advisory Committee (RAC) augmented for review of EPA's radiogenic cancer risk assessment. The SAB was established by 42 U.S.C. 4365 to provide independent scientific and technical advice, consultation, and recommendations to the EPA Administrator on the technical basis for Agency positions and regulations. The augmented RAC will comply with the provisions of FACA and all appropriate SAB procedural policies.

The SAB Radiation Advisory Committee (RAC) augmented for review of EPA's radiogenic cancer risk assessment will provide advice to EPA on a topic of long-term interest to the Agency.

In 1994, the EPA published a report, entitled “Estimating Radiogenic Cancer Risks,” which lays out the EPA's methodology for quantitatively estimating radiogenic cancer risks (http://epa.gov/radiation/docs/assessment/402-r-93-076.pdf). That document revised the methodology for EPA's estimation of cancer risks due to low-Linear-Energy-Transfer (LET) radiation exposures developed in light of information on the Japanese atomic bomb survivors. In 1999, a follow-on report made minor adjustments to the previous estimates and presented a partial analysis of the uncertainties in the numerical estimates (http://epa.gov/radiation/docs/assessment/402-r-99-003.pdf). Also in 1999 the Agency published Federal Guidance Report 13 (http://epa.gov/radiation/docs/federal/402-r-99-001.pdf) which utilized the previously published cancer risk models in conjunction with International Commission on Radiological Protection (ICRP) dosimetric models and the U.S.A. usage patterns, to obtain cancer risk estimates for over 800 radionuclides, and for several exposure pathways. These were later updated at http://www.epa.gov/radiation/federal/techdocs.html#cd_supplement. Prior to their publications, these three documents were first reviewed by the EPA's SAB.

In 2006, the National Research Council of the U.S. National Academy of Sciences (NAS/NRC) released “Health Risks from Exposure to Low Levels of Ionizing Radiation BEIR VII Phase 2,” which primarily addresses cancer and genetic risks from low doses of low-LET radiation available at http://newton.nap.edu/catalog/11340.html#toc.

In August, 2006 EPA prepared the draft “White Paper: Modifying EPA Radiation Risk Models Based on BEIR VII” available at http://epa.gov/radiation/docs/assessment/white-paper8106.pdf, where the Agency proposed changes to the EPA's methodology for estimating radiogenic cancers, based on the contents of BEIR VII and some ancillary information. The Agency expected to adopt the models and methodology recommended in BEIR VII, but believed that certain modifications and expansions were desirable or necessary for the EPA's purposes. EPA's Office of Radiation and Indoor Air (ORIA) requested the SAB to review the Agency's draft White Paper and provide advice regarding the proposed approach to dose-response assessment of radionuclides. The EPA SAB/RAC prepared an advisory entitled “Advisory on Agency Draft White Paper entitled Modifying EPA Radiation Risk Models Based on BEIR VII” (EPA-SAB-08-006) dated January 31, 2008 (see http://yosemite.epa.gov/sab/sabproduct.nsf/FD9963E56C66E4FF852573E200493359/$File/EPA-SAB-08-006-unsigned.pdf).

The EPA's Office of Radiation and Indoor Air (ORIA) has asked the SAB to review a draft document entitled “EPA Radiogenic Cancer Risk Models and Projections for the U.S. Population,” dated December 2008. The document under preparation utilizes the advice contained in the NAS/NRC BEIR VII, Phase 2 report, as well as the SAB's recently completed advisory (EPA-SAB-08-006) described above. The specific charge questions will be provided with the completed draft document and will ask for comments from the SAB's augmented RAC on application of the overall approach to cancer risk estimates for radionuclides. The document to be reviewed will include the uncertainty estimates (which were a separate analysis in the 1999 document review by the SAB/RAC), as well as for specific applications of risk assessment calculations for many radionuclides. It is anticipated that there will likely be questions pertaining to the specific calculations of uncertainty and subsequent risk to the life tables, the lifetime attributable risk, and risks for special populations, as well as alternative models for calculating radiogenic cancer risk for specific applications and projections for the U.S. population.

Purpose of the Teleconference and Meeting: The purpose of the February 27, 2009 teleconference is to discuss EPA's charge to the augmented RAC and the agenda for the face-to-face meeting in March. The purpose of the March 23-25, 2009 meeting is to discuss responses to the charge questions and begin to draft the response.

Availability of Meeting Materials: A roster and biosketches of the augmented RAC, the meeting agenda, the charge to the SAB for review, and other supplemental material will be posted on the SAB Web site at http://www.epa.gov/sab prior to the teleconference and meeting.

The draft document, “EPA Radiogenic Cancer Risk Models and Projections for the U.S. Population,” December 2008 is available at http://epa.gov/radiation/assessment/pubs.html.

Technical Contact: For questions and information concerning the EPA's draft document to be reviewed, please contact Dr. Mary E. Clark of the U.S. EPA, ORIA by telephone at (202) 343-9348, fax at (202) 243-2395, or e-mail at clark.marye@epa.gov.

Procedures for Providing Public Input: Interested members of the public may submit relevant written or oral information for the SAB's augmented RAC to consider during the review process. Oral Statements: In general, individuals or groups requesting an oral presentation at a public teleconference will be limited to three minutes per speaker with no more than a total of fifteen minutes for all speakers. For face-to-face meetings, in general, individuals or groups requesting an oral presentation at a public face-to-face meeting will be limited to five minutes per speaker with no more than a total of one hour for all speakers. Interested parties who wish to be placed on the public speaker list should contact the DFO, contact information provided above, in writing via e-mail seven days prior to the teleconference meeting date. For the February 27, 2009 teleconference meeting, the deadline is Friday, February 20, 2009. For the March 23, 24, and 25, 2009 meeting, the deadline is Monday, March 16, 2009. Written Statements: Written statements should be received in the SAB Staff Office seven days prior to the teleconference meeting, so that the information may be made available to the SAB's augmented RAC for their consideration. For the Friday, February 27, 2009 teleconference meeting, the deadline is Friday, February 20; for the March 23, 24, and 25, 2009 meeting the deadline is Monday, March 16, 2009. Written statements should be supplied to the DFO in the following formats: one hard copy with original signature, and one electronic copy via e-mail to kooyoomjian.jack@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Meeting Accommodations: For information on access or services for individuals with disabilities, please contact the DFO, contact information provided above. To request accommodation of a disability, please contact the DFO, preferably at least 10 days prior to the meeting, to give EPA as much time as possible to process your request.

Dated: January 28, 2009.
Patricia Thomas,
Acting Deputy Director, EPA Science Advisory Board Staff Office.

[FR Doc. E9-2249 Filed 2-2-09; 8:45 am]

BILLING CODE 6560-50-P